DEPARTMENT OF JUSTICE

Notice of Lodging of First Amendment To Consent Decree Under the Clean Air Act

Under 28 CFR 50.7, notice is hereby given that on January 11, 2007, a First Amendment to the Consent Decree entered in the case of United States, et al. v. ConocoPhillips Company, Civil Action No. H-05-0258, was lodged with the United States District Court for the Southern District of Texas.

Under the original Consent Decree, the ConocoPhillips Company (“COPC”) agreed to implement innovative pollution control technologies to reduce emissions of nitrogen oxides, sulfur dioxide, and particulate matter from refinery process units at nine refineries owned and operated by COPC. COPC also agreed to adopt facility-wide enhanced benzene waste monitoring and fugitive emission control programs. COPC still is so obligated, but under the First Amendment, COPC will install additional pollution control technology, including, in one instance, a new electrostatic precipitator, in consideration for deadline extensions. In addition, COPC will be entitled to numerous deadline extensions at COPC's refinery in Belle Chasse, Louisiana, because of damage that refinery suffered from Hurricane Katrina. In the First Amendment, the United States is joined by the State of Illinois, the State of Louisiana, the State of New Jersey, the Commonwealth of Pennsylvania, and the Northwest Clean Air Agency in the State of Washington.

The Department of Justice will receive for a period of thirty (30) days from the date of this publication comments relating to the First Amendment. Comments should be addressed to the Assistant Attorney General, Environment and Natural Resources Division, P.O. Box 7611, U.S. Department of Justice, Washington, DC 20044-7611, and should refer to United States, et al. v. ConocoPhillips Company, D.J. Ref. No. 90-5-2-1-06722/1.

The First Amendment may be examined at the Office of the United States Attorney, 919 Milam St., Suite 1500, Houston, Texas 77208, and at U.S. EPA Region 6, 1445 Ross Avenue, Dallas, Texas 75202-2733. During the public comment period, the First Amendment may also be examined on the following Department of Justice Web site: http://www.usdoj.gov/enrd/Consent_Decrees.html. A copy of the First Amendment may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $14.25 (25 cents per page reproduction cost) payable to the U.S. Treasury, or, if by e-mail or fax, forward a check in that amount to the Consent Decree Library at the stated address.

Robert D. Brook,
Assistant Section Chief, Environmental Enforcement Section, Environment and Natural Resources Division.

[FR Doc. 07-303 Filed 1-24-07; 8:45 am]

BILLING CODE 4410-15-M